DEPARTMENT OF AGRICULTURE

Rural Utilities Service

[Docket No. RUS-20-ELECTRIC-0029]

Notice of Request for Extension of a Currently Approved Information Collection

AGENCY: Rural Utilities Service, USDA.

ACTION: Notice; comment requested.

SUMMARY: In accordance with the Paperwork Reduction Act of 1995, the Rural Utilities Service (RUS) invites comments on this information collection for which approval from the Office of Management and Budget (OMB) will be requested. The intention is to request an extension for a currently approved information collection in support of the RUS Electric Loan Application and Related Reporting Burdens.

DATES: Comments on this notice must be received by September 8, 2020 to be assured of consideration.

FOR FURTHER INFORMATION CONTACT: Robin M. Jones, Rural Development Innovation Center—Regulations Management Division, USDA, 1400 Independence Avenue SW, Room 2445, South Building, Washington, DC 20250. Telephone: (202) 772-1172. email robin.m.jones@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RHS is submitting to OMB for extension.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent by using the Federal eRulemaking Portal: Go to https://www.regulations.gov/ and, in the lower “Search Regulations and Federal Actions” box, select “Rural Utilities Service” from the agency drop-down menu, then click on “Submit.” In the Docket ID column, select RUS-20-ELECTRIC-0029 to submit or view public comments and to view supporting and related materials available electronically. Information on using Regulations.gov, including instructions for accessing documents, submitting comments, and viewing the docket after the close of the comment period, is available through the site's “User Tips” link.

Title: RUS Electric Loan Application and Related Reporting Burdens.

OMB Number: 0572-0032.

Expiration Date of Approval: April 30, 2021.

Type of Request: Extension of a currently approved information collection.

Abstract: The Rural Utilities Service (RUS) was established in 1994 by the Federal Crop Insurance Reform and Department of Agriculture Reorganization Act of 1994 (Pub. L. 103-354, 108 Stat. 3178, 7 U.S.C. 6941 et seq.) as successor to the Rural Electrification Administration (REA) with respect to certain programs, including the electric loan and loan guarantee program authorized under the Rural Electrification Act of 1936 (7 U.S.C. 901 et seq., as amended) (RE Act).

The RE Act authorizes and empowers the Administrator of RUS to make and guarantee loans to furnish and improve electric service in rural areas. These loans are amortized over a period of up to 35 years and secured by the borrower's electric assets and/or revenue. In the interest of protecting loan security, monitoring compliance with debt covenants, and ensuring that RUS loan funds are used for purposes authorized by law, RUS requires that borrowers prepare and submit for RUS evaluation certain studies and reports. Some of these studies and reports are required only once for each loan application; others must be submitted periodically until the loan is completely repaid. These forms and documents serve as support for electric loan applications and summarizes the types and estimated costs of facilities and equipment for which RUS financing is being requested.

The RE Act also authorizes and empowers the Administrator of RUS to make or cause to be made, studies, investigations, and reports concerning the condition and progress of the electrification of the several States and Territories; and to publish and disseminate information with respect thereto. Information supplied by borrowers forms the basis of many of these reports.

In the past two years, RUS has implemented an application intake system called RDApply that allows applicants to create an online application for RUS loans and grants as well as upload attachments, sign certifications, and draw service areas, to name a few features. RDApply streamlines the application process, as well as provides identity security, reduces paper consumption and is expected to reduce the burden associated with this information collection package over time.

Estimate of Burden: Public reporting burden for this collection of information is estimated to average 14.85 hours per response.

Respondents: Not for profit organizations, business or other for profit.

Estimated Number of Respondents: 625.

Estimated Number of Responses per Respondent: 4.72.

Estimated Annual Responses: 2,803.

Estimated Total Annual Burden on Respondents: 41,633 hours.

Copies of this information collection can be obtained from Robin M. Jones, Innovation Center—Regulations Management Division, at (202) 772-1172, email: robin.m.jones@usda.gov.

All responses to this notice will be summarized and included in the request for OMB approval. All comments will also become a matter of public record.

Chad Rupe,
Administrator, Rural Utilities Service.

[FR Doc. 2020-14883 Filed 7-9-20; 8:45 am]

BILLING CODE 3410-15-P